DEPARTMENT OF ENERGY

Federal Energy Regulatory Commission

Notice of Application Tendered for Filing With the Commission, and Establishing a Procedural Schedule for Relicensing and Deadline for Submission of Final Amendments

August 5, 2005.

Take notice that the following hydroelectric applications have been filed with the Commission and are available for public inspection.

a. Type of Applications: New major licenses.

b. Project Nos.: 2545-091 and 12606-000.

c. Date Filed: July 28, 2005.

d. Applicant: Avista Corporation.

e. Name of Projects: (1) Spokane River Hydroelectric Project No. 2545; and (2) Post Falls Hydroelectric Project No. 12606.

The Spokane River Project, as currently licensed, consists of five developments, one of which is the Post Falls development. Avista has filed two applications to relicense the Spokane River Project. One application, docketed P-2545, is for four of the project's developments. The other application, docketed P-12606, is for the Post Falls development only. The separate docketing of these applications corresponds to the applicant's filings. It does not reflect any decision by the Commission as to whether the Post Falls development will be licensed separately. Commission staff intends to prepare one draft and one final environmental document that collectively analyzes Avista's proposals in both license applications.

f. Location: Spokane River Hydroelectric Project No. 2545—Spokane River in portions of Spokane County, Steven County, and Lincoln County, Washington. The project does not occupy Federal lands.

Post Falls Hydroelectric Project No. 12606—Spokane River and Coeur d'Alene Lake in portions of Kootenai County and Benewah County, Idaho. The project occupies Federal lands under the supervision of the U.S. Bureau of Indian Affairs, U.S. Forest Service, and U.S. Bureau of Land Management.

g. Filed Pursuant to: Federal Power Act 16 U.S.C. 791(a)-825(r).

h. Applicant Contact: Bruce F. Howard, License Manager, Avista Corporation, 1411 East Mission, P.O. Box 3727, Spokane, Washington 99220-3727; telephone: (509) 495-2941.

i. FERC Contact: John S. Blair, at (202) 502-6092, john.blair@ferc.gov.

j. Cooperating Agencies: We are asking Federal, State, local, and tribal agencies with jurisdiction and/or special expertise with respect to environmental issues to cooperate with us in the preparation of the environmental document. Agencies who would like to request cooperating status should follow the instructions in item k below.

k. Deadline for filing requests for cooperating agency status: September 27, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Requests for cooperating agency status may be filed electronically via the Internet in lieu of paper. The Commission strongly encourages electronic filings. See 18 CFR 385.2001(a)(1)(iii) and the instructions on the Commission's Web site (http://www.ferc.gov) under the “e-Filing” link.

l. The applications are not ready for environmental analysis at this time.

m. The Spokane River Hydroelectric Project consists of four hydroelectric developments with a total authorized capacity of 122.92 megawatts (MW) as follows:

(1) Upper Falls development is a run-of-river facility consisting of a 366-foot-long, 35.5-foot-high dam across the north channel of the Spokane River; a 70-foot-long, 30-foot-high intake structure across the south channel; an 800-acre-foot reservoir; a 350-foot-long, 18-foot-diameter penstock; and a single-unit powerhouse with a generator nameplate capacity of 10 MW.

(2) Monroe Street development is a run-of-river facility consisting of a 240-foot-long, 24-foot-high dam; a 30-acre-foot reservoir; a 332-foot-long, 14-foot-diameter penstock; and an underground single-unit powerhouse with a generator nameplate capacity of 14.82 MW.

(3) Nine Mile development is a run-of-river facility consisting of a 466-foot-long, 58-foot-high dam; a 4,600 acre-foot reservoir; a 120-foot-long, 5 foot-diameter diversion tunnel; and a 4-unit powerhouse with a nameplate capacity of 26.4 MW.

(4) Long Lake development is a storage-type facility consisting of a 593-foot-long, 213-foot-high main dam; a 247-foot-long, 108-foot-high cutoff dam; a 105,080-acre-foot reservoir; four 236-foot-long, 16-foot-diameter penstocks; and a 4-unit powerhouse with a nameplate capacity of 71.7 MW.

The Post Falls Hydroelectric Project consists of a 431-foot-long, 31-foot-high dam across the north channel of the Spokane River; a 127-foot-long, 25-foot-high dam across the south channel; a 215-foot-long, 64-foot-high dam across the middle channel; six 56-foot-long, 11.25-foot-diameter penstocks; and a 6-unit powerhouse integral to the middle channel dam with a generator nameplate capacity of 14.75 MW. The project impounds the upper 9 miles of the Spokane River between the three dams and the Coeur d'Alene Lake outlet and influences water levels in Coeur d'Alene Lake as well as portions of the St. Joe River, St. Maries River, and Coeur d'Alene River. Coeur d'Alene Lake and the affected Spokane River, St. Joe River, St. Maries River, and Coeur d'Alene River reaches provide a combined usable storage capacity of 223,100 acre-feet.

n. Copies of the applications are available for review at the Commission in the Public Reference Room or may be viewed on the Commission's Web site at http://www.ferc.gov using the “eLibrary” link. Enter the appropriate docket number excluding the last three digits in the docket number field to access the document. For assistance, contact FERC Online Support at FERCOnlineSupport@ferc.gov or toll-free at 1-866-208-3676, or for TTY, (202) 502-8659. Copies are also available for inspection and reproduction at the address in item h above.

You may also register online at http://www.ferc.gov/docs-filing/esubscription.asp to be notified via e-mail of new filings and issuances related to these or other pending projects. For assistance, contact FERC Online Support.

o. With this notice, we are initiating consultation with the Washington and Idaho State Historic Preservation Officers (SHPOs), as required by section 106 of the National Historic Preservation Act, and the regulations of the Advisory Council on Historic Preservation, 36 CFR 800.4.

p. Procedural schedule and final amendments: The applications will be processed according to the following Hydro Licensing Schedule. Revisions to the schedule will be made as needed.

Issue Acceptance letter—October 2005;

Notice soliciting final terms and conditions—February 2006;

Notice of the availability of the draft EIS—September 2006;

Notice of the availability of the final EIS—March 2007;

Ready for Commission's decision on the application—July 2007.

Final amendments to the applications must be filed with the Commission no later than 30 days from the issuance date of the notice soliciting final terms and conditions.

Magalie R. Salas,
Secretary.

[FR Doc. E5-4369 Filed 8-11-05; 8:45 am]

BILLING CODE 6717-01-P